DEPARTMENT OF ENERGY

Federal Energy Regulatory Commission

Notice of Technical Conference

| Docket No.
Local Transmission Planning Within the California Independent System Operator Corporation | AD18-12-000
California Public Utilities Commission, Northern California Power Agency, City and County of San Francisco, State Water Contractors, Transmission Agency of Northern California v. Pacific Gas and Electric Company | EL17-45-000
Southern California Edison Company | ER18-370-000

By order issued concurrently with this notice,¹ the Commission directed staff to convene a technical conference regarding: (1) Local transmission planning within the California Independent System Operator Corporation (CAISO) (new Docket No. AD18-12-000); (2) Docket No. ER18-370-000 related to Southern California Edison Company's (SoCal Edison) filing of revisions to its transmission owner tariff detailing a new annual Transmission Maintenance and Compliance Review process; and (3) a complaint filed in Docket No. EL17-45-000 ² against Pacific Gas and Electric Company (PG&E), regarding PG&E's compliance with the transmission planning principles of Order No. 890.³ The technical conference will explore the processes used by participating transmission owners (PTOs) in CAISO to determine which transmission-related maintenance and compliance activities, including, but not limited to, transmission-related capital additions, will be subject to the CAISO Transmission Planning Process (TPP). The technical conference will take place on May 1, 2018 beginning at approximately 9:00 a.m. and ending at approximately 4:00 p.m. The conference will be held at the Federal Energy Regulatory Commission, 888 First Street NE, Washington, DC 20426. All interested persons are invited to participate in the conference. Commission members may participate in the conference.

¹ Southern California Edison Co., 162 FERC ¶ 61,264 (2018).

² The complainants are the California Public Utilities Commission (CPUC), Northern California Power Agency, the City and County of San Francisco, State Water Contractors, and the Transmission Agency of Northern California.

³ Preventing Undue Discrimination and Preference in Transmission Service, Order No. 890, FERC Stats. & Regs. ¶ 31,241, order on reh'g, Order No. 890-A, FERC Stats. & Regs. ¶ 31,261 (2007), order on reh'g, Order No. 890-B, 123 FERC ¶ 61,299 (2008), order on reh'g, Order No. 890-C, 126 FERC ¶ 61,228, order on clarification, Order No. 890-D, 129 FERC ¶ 61,126 (2009).

In Order No. 890, the Commission required all public utility transmission providers, including regional transmission organizations (RTOs) and independent system operators (ISOs), to revise their open access transmission tariffs (OATTs) to incorporate a transmission planning process that satisfied nine transmission planning principles in order to limit the opportunities for undue discrimination and anticompetitive conduct in the provision of transmission service.⁴ In Order No. 890-A, the Commission noted that each RTO and ISO may fulfill its obligations under Order No. 890 by delegating certain planning activities to, or otherwise relying on, its transmission owning members, provided that the rights and responsibilities of all parties are clearly stated in the RTO/ISO OATT.⁵ The Commission also explained that, in many cases, RTO/ISO transmission planning processes may focus principally on regional problems and solutions, while local planning issues may be addressed by individual transmission owners. Noting that these local planning issues may be critically important to transmission customers, the Commission stated that transmission owners must, to the extent that they perform transmission planning within an RTO or ISO, comply with Order No. 890 as well.⁶

⁴ Order No. 890, FERC Stats. & Regs. ¶ 31,241 at PP 426, 435; see Order No. 890-A, FERC Stats. & Regs. ¶ 31,261 at P 171. These transmission planning principles are: (1) Coordination; (2) openness; (3) transparency; (4) information exchange; (5) comparability; (6) dispute resolution; (7) regional participation; (8) economic planning studies; and (9) cost allocation for new projects.

⁵ Order No. 890-A, FERC Stats. & Regs. ¶ 31,261 at P 175.

⁶ Order No. 890, FERC Stats. & Regs. ¶ 31,241 at P 440.

In a series of orders issued between 2008 and 2010, the Commission accepted CAISO's TPP as consistent with the requirements of Order No. 890.⁷ As is relevant here, in an order issued on May 21, 2009, the Commission found that “the local planning activities conducted by the participating transmission owners [in CAISO] are reasonable and the process, as set forth in the [CAISO] tariff and business practice manual, is transparent.” ⁸ However, more recently, a number of interested parties have raised concerns regarding the lack of opportunity for stakeholder review of transmission-related maintenance and compliance activities, including, but not limited to, certain transmission-related capital additions, which CAISO PTOs do not submit to CAISO's TPP.⁹

⁷ See Cal. Indep. Sys. Operator Corp., 123 FERC ¶ 61,283 (2008), order denying reh'g and on compliance filing, 127 FERC ¶ 61,172 (2009), order on compliance filing, 130 FERC ¶ 61,048 (2010).

⁸ Cal. Indep. Sys. Operator Corp., 127 FERC ¶ 61,172 at P 118.

⁹ See, e.g., Cal. Pub. Utils. Comm'n, et al. v. Pacific Gas & Elec. Co., Complaint, Docket No. EL17-45-000 (filed Feb. 2, 2017) (asserting that Pacific Gas & Electric Co. is in violation of Order No. 890 because it conducts more than 80 percent of its transmission planning on an internal basis without stakeholder review); Cal. Pub. Utils. Comm'n Dec. 22, 2017 Protest, Docket No. ER18-370-000 (protesting Southern California Edison Co.'s filing of an amendment to its Transmission Owner Tariff to create an annual Transmission Maintenance and Compliance Review process on the basis that the proposed process does not meet the requirements of Order No. 890).

In an order issued concurrently with this notice in Docket No. ER18-370-000, the Commission finds that protesters in that proceeding raise important questions that relate to the processes by which all CAISO PTOs determine which transmission-related maintenance and compliance activities, including, but not limited to, transmission-related capital additions, must be submitted to CAISO's TPP. In that order, the Commission directs Commission staff to convene a technical conference to explore these issues.

The specific issues to be discussed include, but are not limited to: (1) The types of transmission-related maintenance and compliance activities, including, but not limited to, certain transmission-related capital additions, that the PTOs submit for review through CAISO's TPP; (2) the process by which PTOs determine which transmission-related maintenance and compliance activities must be considered through CAISO's TPP; and (3) the types of transmission-related maintenance and compliance activities and the process that the CAISO PTOs undertake independent of CAISO's TPP. As part of this discussion, staff seeks to understand the differences in the processes used by each individual PTO in CAISO, the concerns of interested parties regarding these processes, and any role that CAISO may play in these processes. Staff emphasizes that, while Docket Nos. ER18-370-000 and EL17-45-000 specifically relate to Southern California Edison Company and PG&E, respectively, this technical conference will explore the transmission planning processes of all PTOs in CAISO and of CAISO itself.

A supplemental notice(s) will be issued prior to the technical conference with further details regarding the agenda and organization of the technical conference.

All interested persons may attend the conference, and registration is not required. However, in-person attendees are encouraged to register on-line at https://www.ferc.gov/whats-new/registration/05-01-18-form.asp. This event will NOT be webcast. However, for those who cannot attend in person we will provide a listen-only telephone line, if requested. Those wishing this service should register at the link provided and specify the telephone line option.

The technical conference will be transcribed, and transcripts will be available immediately for a fee from Ace Reporting Company (202) 347-3700).

Commission conferences are accessible under section 508 of the Rehabilitation Act of 1973. For accessibility accommodations, please send an email to accessibility@ferc.gov or call toll free (866) 208-3372 (voice) or (202) 502-8659 (TTY), or send a fax to (202) 208-2106 with the required accommodations.

For further information, please contact individuals identified for each topic:

Technical Information: Laura Switzer, Office of Energy Markets Regulation, Federal Energy Regulatory Commission, 888 First Street NE, Washington, DC 20426, (202) 502-6231, laura.switzer@ferc.gov.

Legal Information for Docket Nos. AD18-12-000 and EL17-45-000: Linda Kizuka, Office of the General Counsel, Federal Energy Regulatory Commission, 888 First Street NE, Washington, DC 20426, (202) 502-8773, linda.kizuka@ferc.gov.

Legal Information for Docket Nos. AD18-12-000 and ER18-370-000: Susanna Ehrlich, Office of the General Counsel, Federal Energy Regulatory Commission, 888 First Street NE, Washington, DC 20426, (202) 502-6260, susanna.ehrlich@ferc.gov.

Logistical Information: Sarah McKinley, Office of External Affairs, Federal Energy Regulatory Commission, 888 First Street NE, Washington, DC 20426, (202) 502-8368, sarah.mckinley@ferc.gov.

Dated: March 23, 2018.
Kimberly D. Bose,
Secretary.

[FR Doc. 2018-06409 Filed 3-29-18; 8:45 am]

BILLING CODE 6717-01-P